OFFICE OF PERSONNEL MANAGEMENT

5 CFR Part 550

Pay Administration (General)

AGENCY: Office of Personnel Management.

ACTION: Technical amendment.

SUMMARY: This document contains a technical amendment to the final regulation that was published in the Federal Register on January 9, 1981. This amendment removes a reference to the CFR that is no longer available.

DATES: This amendment is effective on December 31, 2001.

FOR FURTHER INFORMATION CONTACT: Jacquline D. Carter, (202) 606-1973.

SUPPLEMENTARY INFORMATION: On Friday, December 10, 1999, (64 FR 69176) the Office of Personnel Management published a Final rule removing § 550.342 from 5 CFR Part 550. This amendment removes the reference “§ 550.342” from subpart C, § 550.311(a)(3).

Regulatory Flexibility Act

I certify that these changes will not have a significant economic impact on a substantial number of small entities because the regulations pertain only to Federal employees and agencies.

List of Subjects in 5 CFR Part 550

Administrative practice and procedure, Claims, Government employees, Wages.

Office of Personnel Management.

Jacquline D. Carter,
Federal Register Liaison Officer.

Accordingly, OPM is amending 5 CFR part 550 as follows:

PART 550—PAY ADMINISTRATION (GENERAL)

1. The authority citation for subpart C of part 550 continues to read as follows:

Authority: 5 U.S.C. 5527, E.O. 10982, 3 CFR 1959-1963 Comp., p. 502.

§ 550.311 [Amended]

2. In § 550.311 paragraph (a) (3), remove the first “§ ”, and the phrase “and 550.342”.

[FR Doc. 01-31903 Filed 12-28-01; 8:45 am]

BILLING CODE 6325-39-P